DEPARTMENT OF HOUSING AND URBAN DEVELOPMENT

[Docket No. FR-7106-N-04]

Privacy Act of 1974; System of Records

AGENCY: Office of Single Family Asset Management, Department of Housing and Urban Development (HUD).

ACTION: Rescindment of a system of records notice.

SUMMARY: Pursuant to the provisions of the Privacy Act of 1974, as amended, the Department of the Housing and Urban Development (HUD), Office of Single Family Asset Management, is issuing a public notice of its intent to rescind the Office of Single Family Asset Management Privacy Act System of Record, for the Asset Disposition and Management System (ADAMS). Because the system no longer retrieves information using Personal Identifiable Information (PII) data, it does not qualify as a Privacy Act System of Record.

DATES: Comments will be accepted on or before June 12, 2025. This proposed action will be effective immediately upon publication.

ADDRESSES: You may submit comments, identified by one of the following methods:

Federal e-Rulemaking Portal: https://www.regulations.gov. Follow the instructions provided on that site to submit comments electronically.

Fax: (202) 619-8365.

Email: privacy@hud.gov.

Mail: Attention: Privacy Office; LaDonne White, Chief Privacy Officer; The Executive Secretariat; 451 Seventh Street SW, Room 10139, Washington, DC 20410-0001.

Instructions: All submissions received must include the agency name and docket number for this rulemaking. All comments received will be posted without change to https://www.regulations.gov including any personal information provided.

Docket: For access to the docket to read background documents or comments received go to https://www.regulations.gov.

FOR FURTHER INFORMATION CONTACT: LaDonne White, Chief Privacy Officer, 451 Seventh Street SW, Room 10139, Washington, DC 20410-1000; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Asset Disposition and Management System (ADAMS) SORN is being rescinded because the system no longer retrieves information using PII data. Records are retrieved by the Federal Housing Administration case number, contractor ID or name, or non-profit/government agency name. Any previously collected PII has been appropriately handled in compliance with retention and disposition schedules.

SYSTEM NAME AND NUMBER:

Asset Disposition and Management System (ADAMS) HSNG.SF/FRN-07.

HISTORY:

The previously published notice in the Federal Register Agency [Docket Number: FR-6146-N-02], on April 10, 2019, 84 FR 14386.

Shalanda Capehart,
Acting Chief Privacy Officer, Office of Administration.

[FR Doc. 2025-08370 Filed 5-12-25; 8:45 am]

BILLING CODE 4210-67-P